GENERAL SERVICES ADMINISTRATION

[OMB Control No. 3090-00XX; Docket No. 2013-0001; Sequence No. 8]

Submission for OMB Review; MyUSA

AGENCY: Office of Citizen Services and Innovative Technologies (OCSIT), General Services Administration (GSA).

ACTION: Notice of request for comments regarding an extension to an existing OMB clearance.

SUMMARY: Under the provisions of the Paperwork Reduction Act (44 U.S.C. chapter 35), the Regulatory Secretariat Division will be submitting to the Office of Management and Budget (OMB) a request to approve a new information collection requirement concerning MyUSA.

DATES: Submit comments on or before December 30, 2013.

ADDRESSES: Submit comments identified by Information Collection 3090-00XX; MyUSA by any of the following methods:

• Regulations.gov: http://www.regulations.gov. Submit comments via the Federal eRulemaking portal by searching the OMB control number. Select the link “Submit a Comment” that corresponds with “Information Collection 3090-00XX; MyUSA.” Follow the instructions provided at the “Submit a Comment” screen. Please include your name, company name (if any), and “Information Collection 3090-00XX; MyUSA” on your attached document.

• Fax: 202-501-4067.

• Mail: General Services Administration, Regulatory Secretariat (MVCB), 1800 F Street NW., 2nd Floor, Washington, DC 20405-0001. ATTN: IC 3090-00XX; MyUSA.

Instructions: Please submit comments only and cite Information Collection 3090-00XX; MyUSA, in all correspondence related to this collection. All comments received will be posted without change to http://www.regulations.gov, including any personal and/or business confidential information provided.

FOR FURTHER INFORMATION CONTACT: Sarah Crane, Director, Office of Citizen Services and Innovative Technologies, General Services Administration, at telephone number 202-208-5855, or via email to Sarah.Crane@gsa.gov. For information pertaining to status or publication schedules, contact the Regulatory Secretariat at 202-501-4755.

SUPPLEMENTARY INFORMATION:

A. Purpose

MyUSA (https://my.usa.gov) provides an account to users that give them control over their interactions with government agencies and how government uses and accesses their personal information. Users have the option of creating a personal profile that can be reused across government to personalize interactions and streamline common tasks such as filling out forms. Government agencies can build applications that can request permission from the user to access their MyUSA Account and read their personal profile.

The information in the system is contributed voluntarily by the user and cannot be accessed by the government without explicit consent of the user; information is not shared between government agencies, except when the user gives explicit consent to share his or her information, and as detailed in the MyUSA System of Records Notice (SORN) (http://www.gpo.gov/fdsys/pkg/FR-2013-07-05/pdf/2013-16124.pdf).

The information collected is basic profile information, and may include: Name, home address, phone number, date of birth, gender, marital status and basic demographic information such as whether the individual is married, a veteran, a small business owner, a parent or a student.

Use of the system, and contribution of personal information, is completely voluntary.

A notice was published in the Federal Register at 78 FR 49270, on August 13, 2013. No comments were received.

B. Public Comments

Pursuant to section 3506(c)(2)(A) of the PRA, GSA specifically solicits comments and information to enable it to:

1. Evaluate whether the proposed collection of information is necessary for the proper performance of the functions of the Agency, including whether the information will have practical utility;

2. Evaluate the accuracy of the Agency's estimate of the burden of the proposed collection of information, including the validity of the methodology and assumptions used;

3. Enhance the quality, utility, and clarity of the information to be collected; and

4. Minimize the burden of the collection of information on those who are to respond, including through the use of appropriate automated electronic, mechanical, or other technological collection techniques or other forms of information technology, e.g., permitting electronic submission of responses.

C. Annual Reporting Burden

Respondents: 10,000.

Responses per Respondent: 1.

Total annual responses: 10,000.

Hours per Response: .25.

Total Burden Hours: 2,500.

Obtaining Copies of Proposals: Requesters may obtain a copy of the information collection documents from the General Services Administration, Regulatory Secretariat (MVCB), 1800 F Street NW., 2nd Floor, Washington, DC 20405-0001, telephone 202-501-4755. Please cite OMB Control No. 3090-00XX, MyUSA, in all correspondence.

Dated: November 25, 2013.
Casey Coleman,
Chief Information Officer.

[FR Doc. 2013-28715 Filed 11-27-13; 8:45 am]

BILLING CODE 6820-34-P